DEPARTMENT OF THE INTERIOR

Bureau of Land Management

[212.LLWO230000. L11700000.PH0000.LXSGPL000000]

Notice of Availability of the Final Wyoming Sage Grouse Supplemental Environmental Impact Statement

AGENCY: Bureau of Land Management, Interior.

ACTION: Notice of availability.

SUMMARY: In accordance with the National Environmental Policy Act of 1969, as amended, the Bureau of Land Management (BLM) Wyoming State Office has prepared a final Supplemental Environmental Impact Statement (EIS) for the management of Greater Sage-Grouse habitat, and by this notice is announcing its availability.

DATES: The BLM will not issue a final decision on the proposal for a minimum of 30 days after the date that the Environmental Protection Agency (EPA) publishes its Notice of Availability (NOA) in the Federal Register. The EPA usually publishes its NOAs on Fridays.

ADDRESSES: Copies of the final Supplemental EIS are available for public inspection at the Wyoming Bureau of Land Management State Office, 5353 Yellowstone Road, Cheyenne, Wyoming 82009. Interested persons may also review the final Supplemental EIS on the internet at: https://go.usa.gov/xGeWV.

FOR FURTHER INFORMATION CONTACT: Jenny Marzluf, Wyoming Sage-Grouse Implementation Lead, at 307-775-6090; Wyoming Bureau of Land Management State Office, 5353 Yellowstone Road, Cheyenne, Wyoming 82009; jmarzluf@blm.gov. Persons who use a telecommunications device for the deaf (TDD) may call the Federal Relay Service (FRS) at 1-800-877-8339 to contact Ms. Marzluf during normal business hours. The FRS is available 24 hours a day, 7 days a week, to leave a message or question. You will receive a reply during normal business hours.

SUPPLEMENTARY INFORMATION: The BLM has prepared this final Supplemental EIS to review its previous NEPA analysis and clarify and augment it where necessary. This final Supplemental EIS addressed four specific issues: The range of alternatives, the need to take a hard look at environmental impacts, cumulative effects analysis, and the BLM's approach to compensatory mitigation. The final Supplemental EIS will help the BLM determine whether its 2015 and 2019 land use planning and NEPA processes have sufficiently addressed Greater Sage-Grouse habitat conservation or whether the BLM should initiate a new land use planning process to consider additional alternatives or new information.

Comments on the draft Supplemental EIS (85 FR 10185) received from the public and internal BLM review were considered and incorporated as appropriate into the final Supplemental EIS. To address public comments raised during this supplemental analysis, the BLM convened a team of biologists and land use planners to evaluate scientific literature provided to the agency. Upon review, the BLM found that the most up-to-date Greater Sage-Grouse science and other information has incrementally increased, and built upon, the knowledgebase of Greater Sage-Grouse management evaluated by the BLM most recently in its 2019 land use plan amendments, but does not change the scope or direction of the BLM's management; however, new science does suggest adaptations to management may be warranted at site-specific scales.

After reviewing public comments and completing the new science evaluation, the BLM determined that the most recent scientific information relating to Greater Sage-Grouse is consistent with the BLM's environmental analysis in supporting its 2019 Greater Sage-Grouse land use plan amendments.

(Authority: 40 CFR 1506.6, 40 CFR 1506.10)

Kimber Liebhauser,
Acting BLM Wyoming State Director.

[FR Doc. 2020-25650 Filed 11-19-20; 8:45 am]

BILLING CODE 4310-DQ-P